DEPARTMENT OF THE INTERIOR

National Park Service

[NPS-WASO-NRNHL-DTS#-31939; PPWOCRADI0, PCU00RP14.R50000]

National Register of Historic Places; Notification of Pending Nominations and Related Actions

AGENCY: National Park Service, Interior.

ACTION: Notice.

SUMMARY: The National Park Service is soliciting electronic comments on the significance of properties nominated before May 8, 2021, for listing or related actions in the National Register of Historic Places.

DATES: Comments should be submitted electronically by June 2, 2021.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before May 8, 2021. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

ALABAMA

Madison County

Edmonton Heights Historic District, 3800-3822 Colton Ln. NE, 3802-3831 Crane Dr. NE, 3802-3811 Eton Rd. NE, 3812-3818, Melody Cir. NE, 3800-3836 Melody Rd. NE, 3800-3814 Meridian St. North, 200-303, Salem Dr. NE, 202-250 Victory Ln. NE, 100-125 Whitney Ave. NE, 100-199 Wilkenson Dr. NE, Huntsville, SG100006659

DISTRICT OF COLUMBIA

District of Columbia

Southeast Branch Library, 403 7th St. SE, Washington, SG100006651

ILLINOIS

Kane County

Hobbs Building, 2-4 North River St., Aurora, SG100006645

IOWA

Dubuque County

Metz Manufacturing Company, 1690 Elm St., Dubuque, SG100006658

MARYLAND

Howard County

Guilford Quarry Pratt Through Truss Bridge, Jct. of Guilford Rd. and MD 32, Guilford vicinity, SG100006648

MICHIGAN

Marquette County

Ishpeming Main Street Historic District, Generally, Main St. between Front and Division Sts. including selected contiguous properties on Front and East and West Division Sts., Ishpeming, SG100006654

NEW HAMPSHIRE

Cheshire County

Joslin-Faulkner-Putnam House, 150 Court St., Keene, SG100006656

NEW YORK

Cattaraugus County

Kimble-Nellé House, 57 North Chapel St., Gowanda, SG100006643

OHIO

Cuyahoga County

Homestead Theatre Block, 11794-11816 Detroit Ave., Lakewood, SG100006652

Licking County

Curry Farm Historic District, 12844 Foundation Rd., Hartford, SG100006649

Pickaway County

Fleming-Hoffman Farm, 25043 OH 104, Circleville vicinity, SG100006647

Gregg-Crites Octagon House, 440 Crites Rd., Circleville, SG100006653

VERMONT

Chittenden County

Converse Hall, 75 Colchester Ave., Burlington, SG100006655

Additional documentation has been received for the following resource:

MONTANA

Silver Bow County

Butte-Anaconda Historic District (Additional Documentation), 100 East Broadway, Butte, AD66000438

Authority: Section 60.13 of 36 CFR part 60.

Dated: May 11, 2021.
Sherry A. Frear,
Chief, National Register of Historic Places/National Historic Landmarks Program.

[FR Doc. 2021-10373 Filed 5-17-21; 8:45 am]

BILLING CODE 4312-52-P